DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before April 10, 2024.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on February 16, 2024.
Donald P. Burger,
Chief, General Approvals and Permits Branch.

Application No. | Applicant | Regulation(s) affected | Nature of the special permits thereof
Special Permits Data—Granted
11818-M | Raytheon Company | 172.101(j), 173.301(f), 173.302a(a)(1), 173.304a(a)(2) | To modify the special permit to authorize additional packaging.
12135-M | Daicel Safety Systems Inc | 173.301(a)(1), 173.302a, 178.65(c)(3) | To modify the special permit for use up to 15 years after the date of manufacture.
15980-M | Windward Aviation Inc | 172.400, 172.200, 172.300, 173.1, 173.27, 175.33, 175.75 | To modify the special permit to exempt shipments from 49 CFR 172.400 and from 49 CFR 175.33.
16178-M | National Aeronautics and Space Administration | 173.301, 173.302(a), 173.302 | To modify the special permit to authorize the transportation of hazardous materials in cylinders that do not meet UN standards or DOT specifications.
20638-M | Sonoco Products Company | 173.306(a)(3), 173.302(a) | To modify the special permit to authorize the inner containers to be marked “DOT-2P” or “DOT-2Q” even if the inner container does not meet the applicable DOT specification.
21179-M | Airgas USA, LLC | 180.209 | To modify the special permit to modify the test method.
21222-M | Bren-Tronics, Inc | 172.101(j), 173.185(b)(1) | To modify the special permit to reflect changes to the design of the Brenergy Battery series.
21290-M | Orion Engineered Carbons LLC | 171.23(a)(1), 171.23(b)(10), 173.314 | To modify the special permit to authorize an increase in the annual number of shipments.
21379-M | Trane U.S. Inc | 173.306(e)(1), 173.306(e)(2) | To modify the special permit to authorize reconditioned (used) refrigerator machines or components thereof.
21501-N | Luxfer Inc | 173.301(f), 173.302(a) | To authorize the manufacture, mark, sale, and use of a non-DOT specification fully wrapped fiber reinforced composite gas cylinder with a non-metallic and non-load sharing plastic liner that meets the ISO 11119-3 standard, except as specified herein.
21521-M | Honda Motor Co., Ltd | 173.302(a)(1) | To modify the special permit to authorize the COPVs to be shipped in an additional outer packaging.
21650-N | Bollore Logistics Germany GmbH | 172.400, 172.101(j), 172.300, 173.185(a)(1), 173.185(e)(7), 173.301(f), 173.302a(a)(1) | To authorize the transportation in commerce of certain non-DOT specification containers containing certain Division 2.2 and 2.3 liquefied and compressed gases and other hazardous materials for use in specialty cooling applications such as satellites and military aircraft.
21656-N | Rawhide Leasing Company LLC | 173.302a(b) | To authorize the requalification of 3A, 3AA, 3AX, 3AAx and 3T cylinders by proof pressure testing in accordance with CGA Pamphlet C-1 in lieu of hydrostatic or direct expansion testing.
21658-N | Veolia ES Technical Solutions LLC | 173.21(b), 173.51, 173.54(a), 173.56(b) | To authorize the one-time, one-way transportation in commerce of unapproved explosives for the purpose of disposal.
21663-N | Orbion Space Technology, Inc | 172.203(a), 172.301(c), 173.301(f)(1), 173.302(a)(1) | To authorize the transportation in commerce of non-DOT specification cylinders containing xenon, compressed within the Aurora Propulsion System, which may be transported either on its own, within the modular container on file with the Office of Hazardous Materials Safety, or as part of a larger satellite (spacecraft).
21707-N | Stericycle, Inc | 173.196(a) | To authorize the transportation in commerce of certain monkeypox contaminated medical waste for disposal.
Special Permits Data—Denied
21568-N | SodaStream USA, Inc | 180.209(a) | To authorize the transportation in commerce of carbon dioxide in DOT 3AL, TC/3ALM, and UN ISO 7866 specification cylinders that are not subject to the volumetric expansion test.
21599-M | Lanxess Corporation | 178.274(b)(1) | To authorize the manufacture, mark, sale, and use of non-specification “T20” UN portable tanks conforming to all requirements of a UN portable tank.
21644-N | G-Shang Metal Corporation | 180.209 | To authorize the transportation in commerce of DOT 3AL cylinders that have been requalified every 10 years instead of every 5 years.
Special Permits Data—Withdrawn
21698-N | Quantinuum LLC | 173.159(b)(2) | To authorize the transportation in commerce of battery powered equipment to be intentionally activated during transportation.

[FR Doc. 2024-05032 Filed 3-8-24; 8:45 am]

BILLING CODE P